DEPARTMENT OF DEFENSE

GENERAL SERVICES ADMINISTRATION

NATIONAL AERONAUTICS AND SPACE ADMINISTRATION

48 CFR Parts 32 and 52

[FAC 2001-16; FAR Case 2002-018; Item I]

RIN 9000-AJ61

Federal Acquisition Regulation; Central Contractor Registration

Correction

In rule document 03-24582 beginning on page 56669 in the issue of Wednesday, October 1, 2003 make the following corrections:

32.1110 [Corrected]

1. On page 56674, in section 32.1110(a)(2)(i), in the first column, in the second line, “TransferùOther” should read “Transfer—Other”.

52.204-7 [Corrected]

2. On page 56675, in section 52.204-7, in the first column, after paragraph (h), add “(End of clause)”.

[FR Doc. C3-24582 Filed 10-29-03; 8:45 am]

BILLING CODE 1505-01-D